DEPARTMENT OF VETERANS AFFAIRS

[OMB Control No. 2900-New (VERS)]

Agency Information Collection Activities Under OMB Review

AGENCY: Office of Policy, Planning and Preparedness, Department of Veterans Affairs.

ACTION: Notice.

SUMMARY: In compliance with the Paperwork Reduction Act (PRA) of 1995 (44 U.S.C. 3501-3521), this notice announces that the Office of Policy, Planning and Preparedness (OPP&P), Department of Veterans Affairs, has submitted the collection of information abstracted below to the Office of Management and Budget (OMB) for review and comment. The PRA submission describes the nature of the information collection and its expected cost and burden; it includes the actual data collection instrument.

DATES: Comments must be submitted on or before January 19, 2006.

For Further Information or a Copy of the Submission Contact: Denise McLamb, Records Management Service (005E3), Department of Veterans Affairs, 810 Vermont Avenue, NW., Washington, DC 20420, (202) 565-8374 or FAX (202) 565-6950. Please refer to “OMB Control No. 2900-New (VERS)”. Send comments and recommendations concerning any aspect of the information collection to VA's OMB Desk Officer, OMB Human Resources and Housing Branch, New Executive Office Building, Room 10235, Washington, DC 20503 (202) 395-7316. Please refer to “OMB Control No. 2900-New (VERS)” in any correspondence.

SUPPLEMENTARY INFORMATION: Title: Veterans Employability Survey (VERS).

OMB Control Number: None assigned.

Type of Review: New collection.

Abstract: The purpose of the study is to obtain information on veterans who discontinued or interrupted their Vocational Rehabilitation and Employment (VR&E) Program. VA will use the data to determine the factors impacting the veteran's discontinuation of the program, effect on employability and types of interventions that might enable veterans to stay in the program and to compare this VR&E Program population with veterans who successfully complete the program and with the general veteran population.

An agency may not conduct or sponsor, and a person is not required to respond to a collection of information unless it displays a currently valid OMB control number. The Federal Register Notice with a 60-day comment period soliciting comments on this collection of information was published on September 27, 2005, at page 56527.

Affected Public: Individuals or households.

Estimated Time Per Respondent and Annual Burden: 1,667 hours.

Estimated Average Burden Per Respondent: 20 minutes.

Frequency of Response: One-time.

Estimated Number of Respondents: 5,000.

Dated: December 12, 2005.
By direction of the Secretary.
Denise McLamb,
Program Analyst, Records Management Service.

[FR Doc. E5-7573 Filed 12-19-05; 8:45 am]

BILLING CODE 8320-01-P